NUCLEAR REGULATORY COMMISSION

10 CFR Part 72

RIN 3150-AH26

List of Approved Spent Fuel Storage Casks: Standardized NUHOMS®-24P, -52B, and -61BT Revision; Withdrawal of Direct Final Rule

AGENCY: Nuclear Regulatory Commission.

ACTION: Direct final rule; withdrawal.

SUMMARY: The Nuclear Regulatory Commission (NRC) is withdrawing a direct final rule that would have revised the Transnuclear, Inc. (TN) Standardized NUHOMS®-24P, -52B, and -61BT cask system listing within the “List of Approved Spent Fuel Storage Casks” to include Amendment No. 5 to the Certificate of Compliance. The NRC is taking this action because it has received significant adverse comments in response to an identical proposed rule which was concurrently published with the direct final rule.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On August 19, 2003 (68 FR 49683), the NRC published in the Federal Register a direct final rule amending its regulations in 10 CFR 72.214 to revise the Transnuclear, Inc. (TN) Standardized NUHOMS®-24P, -52B, and -61BT cask system listing within the “List of Approved Spent Fuel Storage Casks” to include Amendment No. 5 to the Certificate of Compliance. Amendment No. 5 would have modified the present cask system design to add another dry shielded canister (DSC), designated NUHOMS®-32PT DSC, to the authorized contents of the Standardized NUHOMS®-24P, -52B, and -61BT cask system. This canister is designed to accommodate 32 pressurized water reactor assemblies with or without Burnable Poison Rod assemblies. It is designed for use with the existing NUHOMS® Horizontal Storage Module and NUHOMS® Transfer Cask under a general license. The direct final rule was to become effective on November 3, 2003. The NRC also concurrently published an identical proposed rule on August 19, 2003 (68 FR 49726).

In the August 19, 2003, direct final rule, NRC stated that if any significant adverse comments were received, a timely notice of withdrawal of the direct final rule would be published in the Federal Register. As a result, the direct final rule would not take effect.

The NRC received significant adverse comment on the direct final rule; therefore, the NRC is withdrawing the direct final rule. As stated in the August 19, 2003, direct final rule, NRC will address the comments received on the August 19, 2003, companion proposed rule in a subsequent final rule. The NRC will not initiate a second comment period on this action.

Dated at Rockville, Maryland, this 21st day of October, 2003.
For the Nuclear Regulatory Commission.
William D. Travers,
Executive Director for Operations.

[FR Doc. 03-27330 Filed 10-29-03; 8:45 am]

BILLING CODE 7590-01-P